DEPARTMENT OF VETERANS AFFAIRS

[OMB Control No. 2900-0760]

Proposed Information Collection Certification of United States Paralympics Training Status Activity: Comment Request

AGENCY: Veterans Benefits Administration, Department of Veterans Affairs.

ACTION: Notice.

SUMMARY: The Office of National Veterans Sports Programs and Special Events (NVSPSE), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments for information needed to ascertain the status of disabled Veterans that are participating the Paralympic Allowance Program.

DATES: Written comments and recommendations on the proposed collection of information should be received on or before December 1, 2014.

ADDRESSES: Submit written comments on the collection of information through Federal Docket Management System (FDMS) at www.Regulations.gov or to Joshua McCoy, NVSPSE (002C), Department of Veterans Affairs, 810 Vermont Avenue NW, Washington, DC 20420 or email to Joshua.mccoy2@va.gov. Please refer to “OMB Control No. 2900-0760” in any correspondence. During the comment period, comments may be viewed online through FDMS.

FOR FURTHER INFORMATION CONTACT: (NAME) at (202) 461-0456 or FAX (202) 495-5228.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Certification of United States Paralympics Training Status.

OMB Control Number: 2900-0760.

Type of Review: Revision of a currently approved collection.

Abstract: Section 703 of the Veterans' Benefits Improvement Act of 2008, P.L. 110-389, authorizes the Department of Veterans Affairs (VA) to administer a monthly assistance allowance to a veteran with a service-connected or non service-connected disability if the veteran is competing for a slot on or selected for the United States Paralympics team or is residing at a United States Paralympics training center.

Affected Public: 100.

Estimated Annual Burden: 30 hours.

Estimated Average Burden Per Respondent: 25 minutes.

Frequency of Response: Annually.

Estimated Number of Respondents: 100.

Dated: September 25, 2014.
By direction of the Secretary.
Crystal Rennie,
Department Clearance Officer, Department of Veterans Affairs.

[FR Doc. 2014-23294 Filed 9-30-14; 8:45 am]

BILLING CODE 8320-01-P